FEDERAL MARITIME COMMISSION

[Docket No. 25-03]

Euromarket Designs, Inc., Complainant v. MSC Mediterranean Shipping Company SA; Ocean Network Express Pte. Ltd.; Evergreen Line Joint Service Agreement (FMC Agreement No. 011982); Evergreen Marine Corp. (Taiwan) Ltd., Evergreen Marine (UK) Limited; Italia Marittima SpA; Evergreen Marine (Hong Kong) Ltd.; Evergreen Marine (Singapore) Pte. Ltd.; HMM Company Limited; Maersk A/S; CMA CGM S.A.; Apex Maritime Co., Inc.; China United Transport, Inc.; Cosco Shipping Lines Co., Ltd.; And Wan Hai Lines Ltd., Respondents; Notice of Filing of Complaint and Assignment

Served: January 8, 2025.

Notice is given that a complaint has been filed with the Federal Maritime Commission (the “Commission”) by Euromarket Designs, Inc. (the “Complainant”) against MSC Mediterranean Shipping Company SA; Ocean Network Express Pte. Ltd.; Evergreen Line Joint Service Agreement (FMC Agreement No. 011982); Evergreen Marine Corp. (Taiwan) Ltd., Evergreen Marine (UK) Limited; Italia Marittima SpA; Evergreen Marine (Hong Kong) Ltd.; Evergreen Marine (Singapore) Pte. Ltd.; HMM Company Limited; Maersk A/S; CMA CGM S.A.; Apex Maritime Co., Inc.; China United Transport, Inc.; COSCO SHIPPING Lines Co., Ltd.; and Wan Hai Lines Ltd. (collectively, the “Respondents”). Complainant states that the Commission has subject-matter jurisdiction over this Complaint pursuant to the Shipping Act of 1984, as amended, 46 U.S.C. 40101 et seq. (the “Shipping Act”). Complainant states that the Commission has personal jurisdiction over some of the Respondents as ocean common carriers, as defined in 46 U.S.C. 40102(18), that entered into a service contract, as defined in 46 U.S.C. 40102(21), with Complainant, and others as vessel-operating ocean common carriers, as defined in 46 U.S.C. 40102(18), and non-vessel-operating common carriers, as defined in 46 U.S.C. 40102(17).

Complainant is a corporation existing under the laws of Illinois with a mailing address in Northbrook, Illinois.

Complainant identifies Respondent MSC Mediterranean Shipping Company SA as a company existing under the laws of Switzerland with its principal place of business located in Geneva, Switzerland.

Complainant identifies Respondent Ocean Network Express Pte. Ltd. as a company existing under the laws of Singapore with its principal place of business located in Singapore whose agent in the United States is Ocean Network Express (North America) Inc. with its principal place of business located in Richmond, Virginia.

Complainant identifies Respondent Evergreen Marine Corp. (Taiwan) Ltd. as a company existing under the laws of Taiwan with its principal place of business located in Taipei City, Taiwan whose agent in the United States is Evergreen Shipping Agency (America) Corp. with its principal place of business located in Jersey City, New Jersey.

Complainant identifies Respondent Evergreen Marine (UK) Limited as a company existing under the laws of the United Kingdom with its principal place of business located in London, England.

Complainant identifies Respondent Italia Marittima SpA as a company existing under the laws of Italy with its principal place of business located in Trieste, Italy.

Complainant identifies Respondent Evergreen Marine (Hong Kong) Ltd. as a company existing under the laws of Hong Kong with its principal place of business located in Wan Chai, Hong Kong.

Complainant identifies Respondent Evergreen Marine (Singapore) Pte. Ltd. as a company existing under the laws of Singapore with its principal place of business in Southpoint, Singapore.

Complainant identifies Respondent Evergreen Line Joint Service Agreement (FMC Agreement No. 011982) as a vessel-operating ocean common carrier consisting of Evergreen Marine Corporation (Taiwan) Ltd., Evergreen Marine (UK) Limited, Italia Marittima SpA, Evergreen Marine (Hong Kong) Ltd., Evergreen Marine (Singapore) Pte. Ltd., and non-party, Evergreen Marine (Asia) Pte. Ltd.

Complainant identifies Respondent HMM Company Limited as a company existing under the laws of the Republic of Korea with its principal place of business located in Seoul, Korea whose agent in the United States is HMM (America) Inc. with its principal place of business located in Irving, Texas.

Complainant identifies Respondent Maersk A/S as a company existing under the laws of Denmark with its principal place of business located in Copenhagen, Denmark whose agent in the United States is Maersk Agency U.S.A., Inc. with its principal place of business located in Florham Park, New Jersey.

Complainant identifies Respondent CMA CGM S.A. as a company existing under the laws of France with its principal place of business located in Marseilles, France whose agent in the United States is CMA CGM (America) LLC with its principal place of business located in Norfolk, Virginia.

Complainant identifies Respondent Apex Maritime Co., Inc. as a company existing under the laws of California with its principal place of business located in Burlingame, California.

Complainant identifies Respondent China United Transport, Inc. as a company existing under the laws of the People's Republic of China with its principal place of business located in Shanghai, China.

Complainant identifies Respondent COSCO SHIPPING Lines Co., Ltd. as a company existing under the laws of the People's Republic of China with its principal place of business located in Shanghai, China whose agent in the United States is COSCO SHIPPING Lines (North America) Inc. with its principal place of business located in Secaucus, New Jersey.

Complainant identifies Respondent Wan Hai Lines Ltd. as a company existing under the laws of Taiwan with its principal place of business located in Taipei, Taiwan whose agent in the United States is Wan Hai Lines (USA) Ltd. with its principal place of business located in Long Beach, California.

Complainant alleges that all Respondents violated 46 U.S.C. 41102(c), 41104(a)(2), 41104(a)(10); and 46 CFR 545.5. Complainant alleges these violations arose from the assessment of demurrage and detention charges during periods of time in which the charges were not just or reasonable because of circumstances outside the control of the Complainant, the assessment of these charges under non-compliant bills of lading, and other acts or omissions of the Respondents.

Complainant alleges that the Respondents that entered into a service contract with Complainant violated 46 U.S.C. 41102(c) and 41104(a)(2). Complainant alleges these violations arose from a practice of systematically failing to meet service commitments, the use of coercion to require payment of extracontractual surcharges prior to performance of service commitments and to require amendments to service contracts, and other acts or omissions of these Respondents.

An answer to the complaint must be filed with the Commission within 25 days after the date of service.

The full text of the complaint can be found in the Commission's electronic Reading Room at https://www2.fmc.gov/readingroom/proceeding/25-03/. This proceeding has been assigned to the Office of Administrative Law Judges. The initial decision of the presiding judge shall be issued by January 8, 2026, and the final decision of the Commission shall be issued by July 22, 2026.

David Eng,
Secretary.

[FR Doc. 2025-00780 Filed 1-14-25; 8:45 am]

BILLING CODE P